DEPARTMENT OF ENERGY

Federal Energy Regulatory Commission

Combined Notice of Filings

Take notice that the Commission has received the following Natural Gas Pipeline Rate and Refund Report filings:

Docket Number: PR21-52-000.

Applicants: Washington 10 Storage Corporation.

Description: Tariff filing per 284.123(e)+(g)/: Notice of Cancellation of Statement of Operating Conditions to be effective 8/1/2021.

Filed Date: 6/25/2021.

Accession Number: 202106255093.

Comments Due: 5 p.m. ET 7/16/2021.

284.123(g) Protests Due: 5 p.m. ET7/30/2021.

Docket Number: PR21-53-000.

Applicants: Moss Bluff Hub, LLC.

Description: Tariff filing per 284.123(b),(e)/: Updates to Tariff Contact Person to be effective 7/29/2021.

Filed Date: 6/29/2021.

Accession Number: 202106295056.

Comments/Protests Due: 5 p.m. ET7/20/2021.

Docket Numbers: RP21-917-000.

Applicants: Steckman Ridge, LP.

Description: § 4(d) Rate Filing: Steckman Ridge Updates to Tariff Contact Person to be effective 7/29/2021.

Filed Date: 6/29/21.

Accession Number: 20210629-5065.

Comments Due: 5 p.m. ET 7/12/21.

Docket Numbers: RP21-918-000.

Applicants: Big Sandy Pipeline, LLC.

Description: § 4(d) Rate Filing: Big Sandy EPC 2021 to be effective 8/1/2021.

Filed Date: 6/29/21.

Accession Number: 20210629-5164.

Comments Due: 5 p.m. ET 7/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2021.
Debbie-Anne A. Reese,
Deputy Secretary.

[FR Doc. 2021-14467 Filed 7-6-21; 8:45 am]

BILLING CODE 6717-01-P